NATIONAL ARCHIVES AND RECORDS ADMINISTRATION

[NARA-2016-026]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by May 11, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration, 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0161-2015-0002, 1 item, 1 temporary item). Commodity Credit Corporation records consisting of master files of an electronic information system used to support the price support commodity loans and assistance program.

2. Department of Agriculture, Office of the General Counsel (DAA-0016-2016-0001, 4 items, 2 temporary items). Routine litigation case files and legal matters files. Proposed for permanent retention are significant files.

3. Department of the Army, Agency-wide (DAA-AU-2016-0025, 1 item, 1 temporary item). Records relating to chemical and biological product reliability including inspection and testing reports.

4. Department of the Army, Agency-wide (DAA-AU-2016-0026, 1 item, 1 temporary item). Master files of an electronic information system that contains logistics data on Army supplies and equipment.

5. Department of Defense, Defense Threat Reduction Agency (DAA-0374-2014-0008, 1 item, 1 temporary item). Copies of documents generated as part of a government-wide search for records relating to human research experiments.

6. Department of Defense, Defense Threat Reduction Agency (DAA-0374-2014-0031, 1 item, 1 temporary item). Records related to the distribution of controlled materials including requirements, allocation decisions and requests, allotments, return of controlled materials, and associated records.

7. Department of Defense, Defense Threat Reduction Agency (DAA-0374-2014-0034, 1 item, 1 temporary item). Records regarding quality control of manufactured products including inspection sheets, re-work reports, frequency distribution reports, and related materials.

8. Department of Defense, Defense Threat Reduction Agency (DAA-0374-2014-0039, 1 item, 1 temporary item). Records related to the preparation, approval, revision, and cancellation of standards.

9. Department of Defense, Defense Threat Reduction Agency (DAA-0374-2014-0042, 1 item, 1 temporary item). Records related to warehouse management including purchase, shipping, tracking, and delivery documents.

10. Department of Defense, National Security Agency (DAA-0457-2016-0002, 2 items, 2 temporary items). Records of the Ombudsman program, including case files and statistical reports.

11. Department of Health and Human Services, Centers for Medicare & Medicaid Services (DAA-0440-2016-0002, 1 item, 1 temporary item). Records related to emergency health care services including enrollment and provider records, claims, and reports.

12. Department of Homeland Security, Bureau of Customs and Border Protection (DAA-0568-2015-0005, 5 items, 5 temporary items). Records related to managing laboratory samples and controlled substances, including testing and reviewing procedures, equipment, and staff credentials.

13. Department of the Navy, Agency-wide (DAA-NU-2015-0002, 18 items, 13 temporary items). Records related to telecommunications and information technology including program planning and management, data standardization, general correspondence, routine communications traffic, and related materials. Proposed for permanent retention are records on policy, communications centers, equipment planning, information loss, and the Extremely Low Frequency Program.

14. Department of the Navy, United States Marine Corps (DAA-0127-2015-0002, 3 items, 3 temporary items). Master files of an electronic information system used to manage fire protection and emergency service programs on Marine installations, including personnel records, training records, equipment inventories, and inspection reports.

15. Department of the Navy, United States Marine Corps (DAA-0127-2015-0013, 2 items, 2 temporary items). Master files of an electronic information system used to manage and analyze collected electronic imagery of terrain for commands in the field.

16. Department of the Navy, United States Marine Corps (DAA-0127-2015-0014, 3 items, 3 temporary items). Master files of an electronic information system used to identify individuals who may pose a threat to Marine commands in the field.

17. Department of State, Bureau of International Security and Nonproliferation (DAA-0059-2014-0026, 4 items, 3 temporary items). Records of the Office of Export Control Cooperation including routine administrative and program files, research materials, working files, and training files. Proposed for permanent retention are files relating to conferences sponsored by the office.

18. Environmental Protection Agency, Agency-wide (DAA-0412-2013-0019, 2 items, 1 temporary item). Records documenting activities of senior agency officials to include routine program management and project files. Proposed for permanent retention are substantive senior agency official records including speeches, presentations, congressional and expert testimony, correspondence, and meeting files.

Dated: April 5, 2016.
Laurence Brewer,
Director, Records Management Operations.

[FR Doc. 2016-08251 Filed 4-8-16; 8:45 am]

BILLING CODE 7515-01-P